DEPARTMENT OF LABOR

Occupational Safety and Health Administration

29 CFR Part 1910

[Docket No. S-777]

RIN 1218-AB36

Ergonomics Program Standard Informal Public Hearings

AGENCY: Occupational Safety and Health Administration (OSHA), U.S. Department of Labor.

ACTION: Proposed rule; extension of informal public hearing.

SUMMARY: The Occupational Safety and Health Administration (OSHA) is extending the dates of the informal public hearing on the proposed Ergonomics Program standard (64 FR 65768, November 23, 1999) in Portland, Oregon. OSHA has added two additional days to the Portland hearing, which will now be held from April 24, 2000 through May 5, 2000.

DATES: Informal Public Hearing: The hearing in Washington, DC, began at 9:30 a.m., March 13, 2000, at the Frances Perkins Building, 200 Constitution Avenue, NW., Washington, DC 20210. The hearing in Washington is scheduled to run through April 7, 2000. The hearing will continue in Chicago, Illinois, from April 11, 2000 through April 21, 2000. In Portland, the hearing will run from April 24, through May 5, 2000. The hearings will begin at 8:30 a.m. each day in Chicago and Portland.

Notice of Intention To Appear at the Informal Public Hearing: Notices of intention to appear at the informal public hearing were required to have been postmarked to January 24, 2000.

ADDRESSES: The informal public hearing in Washington, DC, is being held in the Auditorium of the Frances Perkins Building, U.S. Department of Labor, 200 Constitution Avenue, NW., Washington, DC 20210. In Chicago, the hearing will be held at the State of Illinois Building, James R. Thompson Center (Assembly Hall), 100 West Randolph Street. In Portland, the hearing is being held at the Mark Hatfield Federal Court House, 1000 Southwest 3rd Avenue.

FOR FURTHER INFORMATION CONTACT: OSHA's Ergonomics Team at (202) 693-2116, or visit the OSHA Homepage at www.osha.gov.

SUPPLEMENTARY INFORMATION: The amended schedule, as well as any additional updates, is available on OSHA's web site, http://www.osha.gov. Participants whose scheduled presentation times have changed have already received notification of these changes.

Authority: This document was prepared under the direction of Charles N. Jeffress, Assistant Secretary of Labor for Occupational Safety and Health, U.S. Department of Labor, 200 Constitution Avenue, NW., Washington, DC 20210. It is issued under sections 4, 6, and 8 of the Occupational Safety and Health Act of 1970 (29 U.S.C. 653, 655, 657), Secretary of Labor's Order No. 6-96 (62 FR 111), and 29 CFR part 1911.

Signed at Washington, DC, this 5th day of April, 2000.
Charles N. Jeffress,
Assistant Secretary of Labor for Occupational Safety and Health.

[FR Doc. 00-9000 Filed 4-11-00; 8:45 am]

BILLING CODE 4510-26-M